LEGAL SERVICES CORPORATION

Sunshine Act Meeting of the Board of Directors Finance Committee

Time and Date: The Finance Committee of the Legal Services Corporation Board of Directors will meet on November 21, 2003. The meeting will begin at 5 p.m. and continue until the Committee concludes its agenda.

Location: The Association of the Bar of the City of New York, 42 West 44th Street, New York, NY 10036.

Status of Meeting: Open.

Matters to be Considered: 1. Approval of agenda.

2. Approval of the minutes of the Committee's meeting of September 15, 2003.

3. Report on LSC's Consolidated Operating Budget (COB), Expenses, and Other Funds Available through September 30, 2003.

4. Consider and act on proposed Internal Budgetary Adjustments and COB reallocations.

5. Consider and act on other business.

6. Public comment.

7. Consider and act on adjournment of meeting.

FOR FURTHER INFORMATION CONTACT: Victor M. Fortuno, Vice President for Legal Affairs, General Counsel & Corporate Secretary, at (202) 295-1500.

Special Needs: Upon request, meeting notices will be made available in alternate formats to accommodate visual and hearing impairments. Individuals who have a disability and need an accommodation to attend the meeting may notify Elizabeth S. Cushing, at (202) 295-1500.

Dated: November 13, 2003.
Victor M. Fortuno,
Vice President for Legal Affairs, General Counsel & Corporate Secretary.

[FR Doc. 03-28856 Filed 11-13-03; 4:55 pm]

BILLING CODE 7050-01-P